DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: May 25th: 9 a.m. -5 p.m.; May 26th: 8:30 a.m.-5 p.m.; May 27th: 8:30 a.m.-3 p.m.

Place: Hubert H. Humphrey Building, 200 Independence Avenue SW., Room 505A, Washington, DC 20201.

Status: Open.

Purpose: The main focus of the hearings will be on e-prescribing: standards, practices, and incentives and barriers to adoption. The first day will include findings from a recent RAND study on e-prescribing, an overview of patient safety issues, perspectives from the two major e-prescribing networks, and presentations from several major implementation initiatives.

The second day will include discussions on e-prescribing from the perspective of software vendors and knowledge base vendors. Time will be devoted later in the afternoon to follow up on issues related to the DSMO request on transaction standards for billing of supplies by retail pharmacies, which had been discussed at the March 31, 2004, hearing of the Subcommittee.

The morning of the third day will focus on the perspectives of health care providers on e-prescribing. The afternoon will be devoted to Subcommittee discussion and planning for future agendas.

For Further Information Contact: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: April 30, 2004.
James Scalon,
Acting Deputy Assistant Secretary for Science and Data Policy, Office of the Assistant Secretary for Planning and Evaluation.

[FR Doc. 04-10930 Filed 5-13-04; 8:45 am]

BILLING CODE 4151-05-M